DEPARTMENT OF EDUCATION

Notice of Proposed Information Collection Requests

AGENCY: Department of Education.

ACTION: Correction notice.

SUMMARY: On September 12, 2007, the Department of Education published a notice in the Federal Register (Page 52090, Column 2) for the information collection, “Early Childhood Longitudinal Study Birth Cohort, Kindergarten Year Delayed Entry and Repeaters.” This notice hereby corrects the burden hours to 2,408 and the annual responses to 8,787.

The IC Clearance Official, Regulatory Information Management Services, Office of Management, hereby issues a correction notice as required by the Paperwork Reduction Act of 1995.

Dated: September 17, 2007.
James Hyler,
Acting Leader, Information Management Case Services Team, Regulatory Information Management Services, Office of Management.

[FR Doc. E7-18594 Filed 9-20-07; 8:45 am]

BILLING CODE 4000-01-P